DEPARTMENT OF VETERANS AFFAIRS

Advisory Committee on CARES Business Plan Studies; Notice of Meeting

The Department of Veterans Affairs (VA) gives notice under the Public Law 93-463 (Federal Advisory Committee Act) that a meeting of the Advisory Committee on CARES Business Plan Studies will be held on November 15, 2006, from 1 p.m. until 4 p.m. in the Auditorium Building 5, Canadaigua VA Medical Center, 400 Ft. Hill Rd, Canandaigua, NY. The meeting is open to the public.

The purpose of the Committee is to provide advice to the Secretary of Veterans Affairs on proposed business plans at the VA Canadaigua facility which was identified in May 2004 as requiring further study by the Capital Asset Realignment for Enhanced Services (CARES) Decision document.

The objectives of the meeting are to communicate the Secretary's decision on the specific options to be the evaluated and the timeframe for the completion of the study. Additional presentations will focus on the VA-selected contractor's methodology and tools to evaluate the remaining options. The agenda will also accommodate public commentary on implementation issues associated with each option.

Interested persons may attend and present oral or written statements to the Committee. For additional information regarding the meeting, please contact Mr. Jay Halpern, Designated Federal Officer, (00CARES), 810 Vermont Avenue, NW., Washington, DC 20420 by phone at (202) 273-5994, or by email at jay.halpern@hq.med.va.gov.

Dated: October 24, 2006.
By director of the Secretary:
E. Philip Riggin,
Committee Management Officer.

[FR Doc. 06-8962 Filed 10-27-06: 8:45am]

BILLING CODE 8320-01-M